NUCLEAR REGULATORY COMMISSION

Docket No. 50-298; NRC-2008-0617]

Nebraska Public Power District Cooper Nuclear Station; Notice of Issuance of Renewed Facility Operating License No. DPR-46 for an Additional 20-Year Period and Record of Decision

Notice is hereby given that the U.S. Nuclear Regulatory Commission (NRC, the Commission) has issued renewed facility operating license No. DPR-46 to Nebraska Public Power District (NPPD), the operator of the Cooper Nuclear Station (CNS). Renewed facility operating license No. DPR-46 authorizes operation of CNS at reactor core power levels not in excess of 2419 megawatts thermal (830 megawatts electric), in accordance with the provisions of the CNS renewed license and its technical specifications.

The notice also serves as the record of decision for the renewal of facility operating license No. DPR-46, consistent with Title 10 of the Code of Federal Regulations 51.103 (10 CFR 51.103). As discussed in the final Supplemental Environmental Impact Statement (FSEIS) for CNS, dated July 2010, the Commission considered a range of reasonable alternatives that included generation from coal, natural gas, combination of alternatives, and the no action alternative. The factors considered in the record decision can be found in the FSEIS for CNS (Generic Environmental Impact Statement for License Renewal of Nuclear Plants, Supplement 41).

CNS is a BWR located in Nemaha County, Nebraska. The application for the renewed license complied with the standards and requirements of the Atomic Energy Act of 1954, as amended (the Act), and the Commission's regulations. As required by the Act and the Commission's regulations in 10 CFR Chapter I, the Commission has made appropriate findings, which are set forth in the license. Prior public notice of the action involving the proposed issuance of the renewed license and of an opportunity for a hearing regarding the proposed issuance of the renewed license was published in the Federal Register on December 30, 2008.

For further details with respect to this action, see: (1) NPPD's license renewal application for CNS dated September 24, 2008, as supplemented by letters dated through August 30, 2010; (2) the Commission's safety evaluation report (NUREG-1944), published in October 2010; (3) the applicant's updated safety analysis report; and (4) the Commission's final environmental impact statement (NUREG-1437, Supplement 41), for CNS, published in July 2010. These documents are available at the NRC's Public Document Room, One White Flint North, 11555 Rockville Pike, Rockville, Maryland 20852, and can be viewed from the NRC Public Electronic Reading Room at http://www.nrc.gov/reading-rm/adams.html.

Copies of Renewed Facility Operating License No. DPR-46, may be obtained by writing to the U.S. Nuclear Regulatory Commission, Washington, DC 20555-0001, Attention: Director, Division of License Renewal. Copies of the CNS safety evaluation report (NUREG-1944) and the final environmental impact statement (NUREG-1437, Supplement 41) may be purchased from the National Technical Information Service, U.S. Department of Commerce, Springfield, VA 22161 (http://www.ntis.gov), 703-605-6000, or Attention: Superintendent of Documents, U.S. Government Printing Office, P.O. Box 371954, Pittsburgh, PA 15250-7954 (http://www.gpoaccess.gov), 202-512-1800. All orders should clearly identify the NRC publication number and the requestor's Government Printing Office deposit account number or VISA or MasterCard number and expiration date.

Dated at Rockville, Maryland, this 29th day of November 2010.
For the Nuclear Regulatory Commission.
Melanie A. Galloway,
Deputy Director, Division of License Renewal, Office of Nuclear Reactor Regulation.

[FR Doc. 2010-30647 Filed 12-6-10; 8:45 am]

BILLING CODE 7590-01-P